FEDERAL COMMUNICATIONS COMMISSION

47 CFR Part 73

[DA 05-742; MB Docket No. 05-144, RM-11189]

Radio Broadcasting Services; Dalhart and Perryton, TX

AGENCY: Federal Communications Commission.

ACTION: Proposed rule.

SUMMARY: The Audio Division requests comment on a petition filed by Radio Dalhart, requesting the substitution of Channel 241C1 for Channel 242C1 at Dalhart,TX, and the modification of its license for Station KXIT-FM, Dalhart, TX, to specify operation on Channel 241C1 in lieu of Channel 242C1. To accommodate this channel change, Radio Dalhart also requests the substitution of Channel 248C3 for Channel 241C3 at Perryton, TX, and the modification of the license for Station KEYE-FM, Perryton, TX, accordingly. See Supplementary Information, infra.

DATES: Comments must be filed on or before May 10, 2005, and reply comments on or before May 25, 2005.

ADDRESSES: Federal Communications Commission, 445 Twelfth Street, SW., Washington, DC 20554. In addition to filing comments with the FCC, interested parties should serve the petitioner, his counsel, or consultant, as follows: Peter Gutmann, Esq., Womble, Carlyle Sandridge & Rice, PLLC, 1401 I Street, NW., Seventh Floor, Washington, DC 20005.

FOR FURTHER INFORMATION CONTACT: Andrew J. Rhodes, Media Bureau, (202) 418-2180.

SUPPLEMENTARY INFORMATION: This is a synopsis of the Commission's Notice of Proposed Rule Making, MB Docket No. 05-144, adopted March 21, 2005 and released March 23, 2005. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20054, telephone 1-800-378-3160 or www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Pursuant to 47 CFR 1.87, an Order to Show Cause is being sent to Perryton Radio, Inc., licensee of Station KEYE-FM, Channel 241C3, Perryton, Texas, to show cause why its license should not be modified to specify operation on Channel 248C3.

The reference coordinates for Channel 241C1 at Dalhart, Texas, are 35-48-23 and 102-17-16. The reference coordinates for Channel 248C3 at Perryton, Texas, are 36-21-54 and 100-46-48.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for part 73 continues to read as follows:

Authority: 47 U.S.C. 154, 303, 334 and 336.

§ 73.202 [Amended]

2. Section 73.202(b), the Table of FM Allotments under Texas, is amended by removing Channel 242C1 and adding Channel 241C1 at Dalhart and by removing Channel 241C3 and adding Channel 248C3 at Perryton.

Federal Communications Commission.
John A. Karousos,
Assistant Chief, Audio Division, Media Bureau.

[FR Doc. 05-7079 Filed 4-12-05; 8:45 am]

BILLING CODE 6712-01-P